FEDERAL COMMUNICATIONS COMMISSION

Notice of Public Information Collection(s) Being Reviewed by the Federal Communications Commission, Comments Requested

September 16, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before November 22, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-0741.

Title: Implementation of the Local Competition Provisions in the Telecommunications Act of 1996, CC Docket No. 96-98, Second Report and Order and Memorandum Opinion and Order; Second Order on Reconsideration; CC Docket No. 99-273, First Report and Order.

Form No.: N/A.

Type of Review: Extension of a currently approved collection.

Respondents: Business or other for-profit.

Number of Respondents and Responses: 5,907 respondents; 573,767 responses.

Estimated Time Per Response: 1 hour to 547,500 hours.

Frequency of Response: On occasion, annual and one time reporting requirements, recordkeeping requirement and third party disclosure requirement.

Obligation to Respond: Required to obtain or retain benefits. Statutory authority for this information collection is contained in 47 U.S.C. sections 151, 153, 154, 201, 222, and 251.

Total Annual Burden: 575,448 hours.

Total Annual Cost: N/A.

Privacy Act Impact Assessment: N/A.

Nature and Extent of Confidentiality: The Commission is not requesting respondents to submit confidential information to the Commission. As previously noted, however, each ILEC is to provide public notice of proposed network changes. If the ILEC claims that information that they are required to disclose is confidential or proprietary, the ILEC's public notice must include a statement that the ILEC will make further information available to those signing a nondisclosure agreement.

Upon receipt by an ILEC of a competing service provider's request for disclosure of confidential or proprietary information, the applicable public notice period will be tolled until the parties agree on the terms of a nondisclosure agreement. See 47 CFR 51.335.

Needs and Uses: The Commission will submit this expiring information collection after this comment period to obtain the three year clearance from the Office of Management and Budget (OMB). There is no change to the reporting, recordkeeping and/or third arty disclosure requirements. However, the Commission is reporting a significant increase in the number of responses and total annual burden hours. This increase is because the Commission believes that LECs now generally provide not only one transfer of information but daily updates in response to the requests they may receive for directory assistance and DA listings. While this increases the number of times that LECs are providing the DA information, it is understood that this is a generally an automated process, so the costs and time involved with all of these responses should be relatively small. As a result, this submission will show that the overall cost for compliance with these requirements has decreased at the same time that the estimate for the number of responses has increased.

Section 251 of the Telecommunications Act of 1996 is designed to accelerate private sector development and deployment of telecommunications technologies and services by spurring competition. The Commission adopted rules and regulations designed to implement certain provisions of section 251, and to eliminate operational barriers to competition in the telecommunications services marketplace.

The current information collection requirements are: 1) sharing directory listing; 2) notification regarding format; 3) provision of technical information; 4) public notice of network changes; 5) burden of proof; 6) submission of notice to serve as central office administrator; 7) subscriber list information for Internet directories; 8) provision of nondiscriminatory access to non-local director assistance listings; and 9) listing information to non-telephone exchange or toll service directory assistance providers.

Federal Communications Commission.
Marlene H. Dortch,
Secretary,
Office of the Secretary,
Office of Managing Director.

[FR Doc. 2010-23606 Filed 9-21-10; 8:45 am]

BILLING CODE 6712-01-S